DEPARTMENT OF HOMELAND SECURITY

Federal Emergency Management Agency

44 CFR Part 67

[Docket ID FEMA-2008-0020; Internal Agency Docket No. FEMA-B-1080]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before February 23, 2010.

ADDRESSES: The corresponding preliminary Flood Insurance Rate Map (FIRM) for the proposed BFEs for each community is available for inspection at the community's map repository. The respective addresses are listed in the table below.

You may submit comments, identified by Docket No. FEMA-B-1080, to Kevin C. Long, Acting Chief, Engineering Management Branch, Mitigation Directorate, Federal Emergency Management Agency, 500 C Street, SW., Washington, DC 20472, (202) 646-2820, or (e-mail) kevin.long@dhs.gov.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground ^ Elevation in meters (MSL): Effective | * Elevation in feet (NGVD) + Elevation in feet (NAVD) # Depth in feet above ground ^ Elevation in meters (MSL): Modified | Communities affected
Cherokee County, Alabama, and Incorporated Areas
Coosa River | Approximately 1,080 feet downstream of State Highway 35 | None | +575 | Town of Gaylesville.
| Approximately 2.0 miles upstream of State Highway 35 | None | +579
Weiss Lake | Entire shoreline of Weiss Lake | None | +573 | Town of Cedar Bluff.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Town of Cedar Bluff
Maps are available for inspection at 3420 Spring Street, Cedar Bluff, AL 35959.
Town of Gaylesville
Maps are available for inspection at 4740 Main Street, Gaylesville, AL 35973.
Appling County, Georgia, and Incorporated Areas
Sweet Water Creek | Approximately 400 feet upstream of Satilla Church Road | None | +166 | City of Baxley.
| Approximately 0.97 mile upstream of Satilla Church Road | None | +169
Tributary B | Approximately 150 feet upstream of confluence with Sweet Water Creek | None | +169 | City of Baxley.
| Approximately 150 feet downstream of State Highway 15 | None | +194
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Baxley
Maps are available for inspection at 282 East Parker Street, Baxley, GA 31513.
Burke County, Georgia, and Incorporated Areas
McIntosh Creek | Approximately 260 feet downstream of State Highway 121 | None | +210 | City of Waynesboro.
| Approximately 420 feet upstream of Highway 121 | None | +213
Savannah River | Approximately 1.54 mile downstream of confluence with McBean Creek | None | +107 | Unincorporated Areas of Burke County.
| Approximately 6.84 miles upstream of confluence with McBean Creek | +115 | +112
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Waynesboro
Maps are available for inspection at 628 Myrick Street, Waynesboro, GA 30830.
Unincorporated Areas of Burke County
Maps are available for inspection at 602 North Liberty Street, Waynesboro, GA 30830.
Effingham County, Georgia, and Incorporated Areas
Dasher Creek | Approximately 0.51 mile upstream of North Carolina Avenue | None | +47 | City of Rincon, Unincorporated Areas of Effingham County.
| Approximately 2.14 miles upstream of McCall Road | None | +62
Sweigoffer Creek | Approximately 90 feet upstream of Seaboard Coast Line Railroad | +43 | +39 | Unincorporated Areas of Effingham County.
| Approximately 0.91 mile upstream of Georgia Southern Railway | None | +57
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Rincon
Maps are available for inspection at 302 South Columbia Avenue, Rincon, GA 31326.
Unincorporated Areas of Effingham County
Maps are available for inspection at 601 North Laurel Street, Springfield, GA 31329.
Emanuel County, Georgia, and Incorporated Areas
Crooked Creek | Approximately 200 feet downstream of Old Nunez Road | None | +200 | Unincorporated Areas of Emanuel County.
| Approximately 1,400 feet downstream of Meadowlake Parkway | None | +241
Holloway Pond/Yam Grandy Creek Tributary | Entire shoreline of Holloway Pond | None | +251 | Unincorporated Areas of Emanuel County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Emanuel County
Maps are available for inspection at 101 North Main Street, Swainsboro, GA 30401.
Tattnall County, Georgia, and Incorporated Areas
Ohoopee River | At Georgia Central Railroad | None | +109 | Unincorporated Areas of Tattnall County.
| Approximately 2.66 miles upstream of State Highway 292/Sixth Avenue | None | +118
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Tattnall County
Maps are available for inspection at the County Courthouse, 108 Brazwell Street, Reidsville, GA 30453.
Calhoun County, Illinois, and Incorporated Areas
Illinois River | Approximately Springfield Street extended (Calhoun/Jersey county boundary approximately river mile 1.2) | +440 | +439 | Unincorporated Areas of Calhoun County, Village of Hardin, Village of Kampsville.
| Approximately 1,500 feet downstream of Bee Creek Road extended (Calhoun/Pike county boundary approximately river mile 38.9) | +442 | +441
Mississippi River | Approximately Springfield Street extended (Calhoun/Jersey county boundary approximately river mile 219.15) | +440 | +439 | Unincorporated Areas of Calhoun County, Village of Hamburg.
| Approximately 1.0 mile upstream of Lock and Dam No. 24 (approximately river mile 274.43) | +458 | +457
Pohlman Creek | Approximately 75 feet downstream of Main Street in the Village of Brussels, IL | None | +454 | Unincorporated Areas of Calhoun County.
| Approximately 20 feet upstream of Main Street in the Village of Brussels, IL | None | +456
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Calhoun County
Maps are available for inspection at the Calhoun County Courthouse, 102 South County Road, Hardin, IL 62047.
Village of Hamburg
Maps are available for inspection at the Village Hall, 211 Washington Street, Hamburg, IL 62045.
Village of Hardin
Maps are available for inspection at the Village Hall, 100 Main Street, Hardin, IL 62047.
Village of Kampsville
Maps are available for inspection at the Village Hall, 210 Oak Street, Kampsville, IL 62053.
Vanderburgh County, Indiana, and Incorporated Areas
Bluegrass Creek | At Heckel Road | +385 | +384 | Unincorporated Areas of Vanderburgh County.
| Approximately 1.5 mile upstream of Boonville-New Harmony Road | None | +387
Crawford-Brandeis Ditch | Upstream side of Norfolk Southern Railroad | +385 | +386 | Unincorporated Areas of Vanderburgh County.
Dry Run Lower | At the confluence with Pigeon Creek | +379 | +378 | City of Evansville.
| Approximately 100 feet upstream of 1st Avenue | None | +381
Dry Run Upper | At the confluence with Dry Run Lower | None | +378 | City of Evansville.
| Approximately 0.3 mile upstream of Cross Gate Drive | None | +407
Greenbriar Hills Tributary | Approximately 600 feet upstream of the confluence with Little Pigeon Creek | None | +381 | Unincorporated Areas of Vanderburgh County.
| Approximately 800 feet upstream of Greendale Drive | None | +413
Harper Ditch | At the confluence with Hirsch Ditch | None | +381 | City of Evansville.
| At the confluence with Pigeon Creek | +382 | +381
Hirsch Ditch | At the confluence with Harper Ditch | None | +381 | Unincorporated Areas of Vanderburgh County, City of Evansville.
| At the confluence of Crawford-Brandeis, Lockwood, and Stockfleith Ditches | +385 | +386
Little Pigeon Creek | At the confluence with Pigeon Creek | None | +378 | Unincorporated Areas of Vanderburgh County, City of Evansville.
| Approximately 2,250 feet upstream of the confluence with Pigeon Creek | None | +378
Lockwood Ditch | At the confluence of Crawford-Brandeis, Stockfleith, and Hirsch Ditches | +385 | +386 | Unincorporated Areas of Vanderburgh County.
| At county boundary | +385 | +387
Mill Road Tributary | At the confluence with Little Pigeon Creek | None | +378 | City of Evansville.
| Approximately 725 feet upstream of Inwood Drive | None | +407
Nurenbern Ditch | At the confluence with Lockwood Ditch | +385 | +387 | Unincorporated Areas of Vanderburgh County.
| At State Route 66 | None | +389
Ohio River | Approximately 7.3 miles upstream of Vanderburgh/Posey county boundary (extended) | +375 | +374 | Unincorporated Areas of Vanderburgh County, City of Evansville.
| Approximately 1.5 miles downstream of Vanderburgh/Warrick county boundary (extended) | +380 | +381
Pigeon Creek | Approximately 1,200 feet downstream of North Fulton Avenue | +379 | +378 | Unincorporated Areas of Vanderburgh County, City of Evansville.
| At Green River Road | +384 | +383
Schlensker Ditch | At Green River Road | +385 | +389 | Unincorporated Areas of Vanderburgh County.
| Approximately 2,000 feet upstream of Browning Road | None | +441
Schlensker Ditch Tributary | At the confluence with Schlensker Ditch | None | +405 | Unincorporated Areas of Vanderburgh County.
| Approximately 0.5 mile upstream of the confluence with Schlensker Ditch | None | +409
Stockfleith Ditch | At the confluence with Hirsch, Lockwood, and Crawford-Brandeis Ditches | +385 | +386 | Unincorporated Areas of Vanderburgh County.
| At State Route 66 | None | +388
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Evansville
Maps are available for inspection at the Civic Center Complex, Building Commission Department, 1 Northwest Martin Luther King Jr. Boulevard, Room 310, Evansville, IN 47708.
Unincorporated Areas of Vanderburgh County
Maps are available for inspection at the Civic Center Complex, Building Commission Department, 1 Northwest Martin Luther King Jr. Boulevard, Room 310, Evansville, IN 47708.
Barren County, Kentucky, and Incorporated Areas
Barren River Lake | Entire shoreline | None | +590 | Unincorporated Areas of Barren County.
Barren River Tributary 32.1 (Backwater effects from Barren River Lake) | From the confluence with Barren River Lake to approximately 0.2 mile upstream of the confluence with Barren River Lake | None | +590 | Unincorporated Areas of Barren County.
Beaver Creek (Backwater effects from Barren River Lake) | From the confluence with Barren River Lake to approximately 4.0 miles upstream of the confluence with Barren River Lake | None | +590 | Unincorporated Areas of Barren County.
Beaver Creek Tributary 1 (Backwater effects from Barren River Lake) | From the confluence with Barren River Lake to approximately 0.7 mile upstream of the confluence with Barren River Lake | None | +590 | Unincorporated Areas of Barren County.
Beaver Creek Tributary 1.4 (Backwater effects from Barren River Lake) | From the confluence with Beaver Creek Tributary 1 to approximately 1.5 mile upstream of the confluence with Beaver Creek Tributary 1 | None | +590 | Unincorporated Areas of Barren County.
Beaver Creek Tributary 47 (Backwater effects from Barren River Lake) | From the confluence with Beaver Creek to approximately 0.3 mile upstream of the confluence with Beaver Creek | None | +590 | Unincorporated Areas of Barren County.
Coon Creek (Backwater effects from Barren River Lake) | From the confluence with Barren River Lake to approximately 0.8 mile upstream of the confluence with Barren River Lake | None | +590 | Unincorporated Areas of Barren County.
Dry Creek (Backwater effects from Barren River Lake) | From the confluence with Barren River Lake to approximately 1.0 mile upstream of the confluence with Barren River Lake | None | +590 | Unincorporated Areas of Barren County.
Peter Creek (Backwater effects from Barren River Lake) | From the confluence with Barren River Lake to approximately 2.2 miles upstream of the confluence with Barren River Lake | None | +590 | Unincorporated Areas of Barren County.
Rose Creek (Backwater effects from Barren River Lake) | From the confluence with Skaggs Creek to approximately 1.6 mile upstream of the confluence with Skaggs Creek | None | +590 | Unincorporated Areas of Barren County.
Skaggs Creek (Backwater effects from Barren River Lake) | From the confluence with Barren River Lake to approximately 2.3 miles upstream of the confluence with Barren River Lake | None | +590 | Unincorporated Areas of Barren County.
South Fork Beaver Creek (Backwater effects from Barren River Lake) | From the confluence with Beaver Creek to approximately 0.4 mile upstream of the confluence with Beaver Creek | None | +590 | Unincorporated Areas of Barren County.
South Glover Creek (Backwater effects from Barren River Lake) | From the confluence with Barren River Lake to approximately 1.5 mile upstream of the confluence with Barren River Lake | None | +590 | Unincorporated Areas of Barren County.
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Barren County
Maps are available for inspection at 117 North Public Square, Suite 3A, Glasgow, KY 42141.
Vernon Parish, Louisiana, and Incorporated Areas
Bayou Castor | Approximately 1 mile downstream of Highway 466 | None | +225 | City of Leesville, Unincorporated Areas of Vernon Parish.
| Approximately 700 feet upstream of the confluence with Stream No. 1 | None | +231
Sabine River | Approximately 2.67 miles downstream of Neal Loop | None | +85 | Unincorporated Areas of Vernon Parish.
| Approximately 2.3 miles upstream of Parish Road 113 | None | +115
Stream No. 1 | At the confluence with Stream No. 2 | None | +231 | City of Leesville, Unincorporated Areas of Vernon Parish.
| Just downstream of Herring Street | None | +237
Stream No. 2 | At the confluence with Stream No. 1 | None | +231 | City of Leesville.
| Just downstream of 5th Street | None | +244
Stream No. 3 | Approximately 780 feet upstream of Franklin Avenue | None | +224 | City of Leesville.
| Just downstream of West Texas Street | None | +253
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Leesville
Maps are available for inspection at City Hall, 101 West Lee Street, Leesville, LA 71446.
Unincorporated Areas of Vernon Parish
Maps are available for inspection at the Police Jury, 602 Alexandria Highway, Leesville, LA 71446.
Cass County, Nebraska, and Incorporated Areas
Missouri River | Approximately 8,140 feet southeast of Eaton Lane | *940 | +943 | Unincorporated Areas of Cass County, City of Plattsmouth.
| Approximately 13,800 feet downstream of Interstate 75 | *966 | +969
Platte River | Approximately 13,800 feet downstream of Interstate 75 | *966 | +969 | Unincorporated Areas of Cass County, City of Plattsmouth, Village of Cedar Creek, City of Louisville, Village of South Bend.
| Approximately 9,200 feet upstream of Interstate 80 | *1059 | +1061
Weeping Water Creek | Approximately 2,800 feet downstream of 48th Street | None | +993 | Village of Nehawka.
| Approximately 2,600 feet upstream of 48th Street | None | +998
Weeping Water Creek | Just upstream of Scenic Road | None | +1061 | Unincorporated Areas of Cass County, City of Weeping Water.
| Approximately 2,815 feet downstream of State Highway 50 | None | +1094
| Approximately 215 feet upstream of State Highway 50 | None | +1111
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Louisville
Maps are available for inspection at City Hall, 210 Main Street, Louisville, NE 68037.
City of Plattsmouth
Maps are available for inspection at City Hall, 136 North 5th Street, Plattsmouth, NE 68048.
City of Weeping Water
Maps are available for inspection at City Hall, 203 West Eldora, Weeping Water, NE 68463.
Unincorporated Areas of Cass County
Maps are available for inspection at the County Courthouse, 346 Main Street, Plattsmouth, NE 68048.
Village of Cedar Creek
Maps are available for inspection at the Village Office, 200 East B Street, Cedar Creek, NE 68016.
Village of Nehawka
Maps are available for inspection at the Village Office, 713 Elm Street, Nehawka, NE 68413.
Village of South Bend
Maps are available for inspection at the Village Hall, 300 Spruce Street, South Bend, NE 68058.
Huron County, Ohio, and Incorporated Areas
East Branch Huron River | Approximately 50 feet downstream of Norfolk and Western Railroad | None | +666 | Unincorporated Areas of Huron County.
| Approximately 0.5 mile downstream of West Main Street | None | +672
| Approximately 50 feet downstream of West Main Street | None | +674
| Just downstream of State Highway 61 | None | +677
Norwalk Creek | Just downstream of State Highway 61 | None | +677 | Unincorporated Areas of Huron County.
| Approximately 1,800 feet upstream of State Highway 61 | None | +680
Norwalk Creek | Approximately 700 feet downstream of Southwest Street | +687 | +688 | Unincorporated Areas of Huron County, City of Norwalk.
| Approximately 400 feet downstream of East Elm Street | +708 | +709
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Norwalk
Maps are available for inspection at 38 Whittlesey Avenue, Norwalk, OH 44857.
Unincorporated Areas of Huron County
Maps are available for inspection at 8 Fair Road, Norwalk, OH 44857.
Cherokee County, Texas, and Incorporated Areas
Gum Creek | Just upstream of Lakeshore Drive | None | +429 | City of Jacksonville.
| Approximately 1,700 feet upstream of Lakeshore Drive | None | +439
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
City of Jacksonville
Maps are available for inspection at 301 East Commerce Street, Jacksonville, TX 75766.
Jasper County, Texas, and Incorporated Areas
Pin Oak Creek | Approximately 550 feet downstream of Lanier Street | None | +99 | Unincorporated Areas of Jasper County.
| Approximately 1,000 feet upstream of County Road 404 | None | +110
Sandy Creek | Just upstream of the Burlington Northern Santa Fe Corporation Railroad | None | +214 | Unincorporated Areas of Jasper County.
| Approximately 0.5 mile upstream of the Burlington Northern Santa Fe Corporation Railroad | None | +217
Trotti Creek | Just upstream of Farm-to-Market 2799 | None | +198 | Unincorporated Areas of Jasper County.
| Just downstream of County Road 128 | None | +204
| Approximately 450 feet upstream of Farm-to-Market 2800 | None | +240
| Approximately 0.7 mile upstream of Farm-to-Market 2800 | None | +244
Trout Creek | Approximately 481 feet downstream of the confluence with Pin Oak Creek | None | +99 | Unincorporated Areas of Jasper County.
| Approximately 0.72 mile upstream of Highway 96 | None | +105
* National Geodetic Vertical Datum.
+ North American Vertical Datum.
# Depth in feet above ground.
^ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Kevin C. Long, Acting Chief, Engineering Management Branch, Mitigation Directorate, Federal Emergency Management Agency, 500 C Street, SW., Washington, DC 20472.
ADDRESSES
Unincorporated Areas of Jasper County
Maps are available for inspection at 121 North Austin, Room 106, Jasper, TX 75951.

(Catalog of Federal Domestic Assistance No. 97.022, “Flood Insurance.”)
Deborah S. Ingram,
Acting Deputy Assistant Administrator for Mitigation, Mitigation Directorate, Department of Homeland Security, Federal Emergency Management Agency.

[FR Doc. E9-28311 Filed 11-24-09; 8:45 am]

BILLING CODE 9110-12-P